DEPARTMENT OF COMMERCE

National Oceanic and Atmospheric Administration

50 CFR Part 660

[Docket No. 130108020-3409-01]

RIN 0648-XD198

Fisheries Off West Coast States; Modifications of the West Coast Commercial Salmon Fisheries; Inseason Actions #1, #2, and #3

AGENCY: National Marine Fisheries Service (NMFS), National Oceanic and Atmospheric Administration (NOAA), Commerce.

ACTION: Modification of fishing seasons; request for comments.

SUMMARY: NOAA Fisheries announces three inseason actions in the ocean salmon fisheries. These inseason actions modified the commercial salmon fisheries in the area from Cape Falcon, Oregon to Point Arena, California.

DATES: The effective dates for the inseason actions are set out in this document under the heading Inseason Actions. Comments will be accepted through April 11, 2014.

ADDRESSES: You may submit comments, identified by NOAA-NMFS-2012-0248, by any one of the following methods:

• Electronic Submissions: Submit all electronic public comments via the Federal eRulemaking Portal. Go to www.regulations.gov/#!docketDetail;D=NOAA-NMFS-2012-0248, click the “Comment Now!” icon, complete the required fields, and enter or attach your comments.

• Mail: William W. Stelle, Jr., Regional Administrator, West Coast Region, NMFS, 7600 Sand Point Way NE., Seattle, WA 98115-6349.

• Fax: 206-526-6736, Attn: Peggy Mundy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peggy Mundy at 206-526-4323.

SUPPLEMENTARY INFORMATION:

Background

In the 2013 annual management measures for ocean salmon fisheries (78 FR 25865, May 3, 2013), NMFS announced the commercial and recreational fisheries in the area from the U.S./Canada Border to the U.S./Mexico Border, beginning May 1, 2013, and 2014 salmon seasons opening earlier than May 1, 2014. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions).

Management of the salmon fisheries is generally divided into two geographic areas: north of Cape Falcon (U.S./Canada Border to Cape Falcon, Oregon) and south of Cape Falcon (Cape Falcon, Oregon to the U.S./Mexico Border). The inseason actions reported in this document affect fisheries south of Cape Falcon.

Inseason Actions

Inseason Action #1

Inseason action #1 adjusted the scheduled opening date for commercial salmon fisheries from Cape Falcon, Oregon, to Humbug Mountain, Oregon, and from Humbug Mountain, Oregon, to the Oregon/California Border. These fisheries, previously scheduled to open March 15, 2014, now open April 1, 2014.

The Regional Administrator (RA) consulted with representatives of the Council, Oregon Department of Fish and Wildlife (ODFW), and California Department of Fish and Wildlife (CDFW) on March 11, 2014. The information considered during this consultation related to projected abundance of Chinook salmon stocks for the 2014 salmon fishing season. During the consultation, the states recommended adjusting the opening date for this fishery in order to conserve impacts on age-4 Klamath River fall Chinook salmon (KRFC); the RA concurred. KRFC is the constraining stock for Klamath Management Zone (KMZ) fisheries to meet annual catch limits (ACLs) and is used as a surrogate for impacts to Endangered Species Act (ESA) listed California coastal Chinook salmon. Inseason action #1 took effect on March 15, 2014 and remains in effect until May 1, 2014. Inseason action to modify quotas and/or fishing seasons is authorized by 50 CFR 660.409(b)(1)(i).

Inseason Action #2

Inseason action #2 cancelled the previously scheduled April 16-30, 2014, commercial salmon fishery from Horse Mountain, California to Point Arena, California.

The RA consulted with representatives of the Council, ODFW, and CDFW on March 11, 2014. The information considered during this consultation related to projected abundance of Chinook salmon stocks for the 2014 salmon fishing season. During the consultation, the states recommended cancelling this commercial fishery in order to conserve impacts on age-4 Klamath River fall Chinook salmon (KRFC); the RA concurred. KRFC is the constraining stock for KMZ fisheries to meet ACLs and is used as a surrogate for impacts to ESA-listed California coastal Chinook salmon. Inseason action #2 takes effect on April 16, 2014, and remains in effect until May 1, 2014. Inseason action to modify quotas and/or fishing seasons is authorized by 50 CFR 660.409(b)(1)(i).

Inseason Action #3

Inseason action #3 adjusted the landing limits for halibut caught incidental to the April 2014 commercial salmon fishery. International Pacific Halibut Commission license holders participating in the April 2014 commercial salmon fishery may land or possess no more than one Pacific halibut per each four Chinook, except one Pacific halibut may be possessed or landed without meeting the ratio requirement, and no more than 12 halibut may be possessed or landed per trip.

The RA consulted with representatives of the Council, ODFW, and CDFW on March 11, 2014. The information considered during this consultation related to the 2014 Pacific halibut allocation provided to the commercial salmon fishery under the 2014 Pacific Halibut Catch Sharing Plan for the U.S. West Coast (Area 2A); this allocation is reduced from 2013. During the consultation, the states recommended reducing both the halibut trip limit and the landing ratio of halibut to Chinook salmon to conserve the reduced allocation; the RA concurred. Inseason action #3 takes effect on April 1, 2014, and remains in effect until May 1, 2014. Inseason action to modify retention regulations is authorized by 50 CFR 660.409(b)(1)(ii).

All other restrictions and regulations remain in effect as announced for the 2013 ocean salmon fisheries and 2014 fisheries opening prior to May 1, 2014 (78 FR 25865, May 3, 2013).

The RA determined that the best available information indicated that projected abundance of Chinook salmon and availability of Pacific halibut supported the above inseason actions recommended by the states of Oregon and California. The states manage the fisheries in state waters adjacent to the areas of the U.S. exclusive economic zone in accordance with these Federal actions. As provided by the inseason notice procedures of 50 CFR 660.411, actual notice of the described regulatory actions was given, prior to the time the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (78 FR 25865, May 3, 2013), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon abundance projections and Pacific halibut allocations were developed and fisheries impacts were calculated, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: March 24, 2014.
Emily H. Menashes,
Acting Director, Office of Sustainable Fisheries, National Marine Fisheries Service.

[FR Doc. 2014-06821 Filed 3-24-14; 4:15 pm]

BILLING CODE 3510-22-P